DEPARTMENT OF JUSTICE

Notice of Lodging of Proposed Consent Decree Under The Clean Air Act

On January 19, 2021, the Department of Justice lodged a proposed consent decree with the United States District Court for the Eastern District of Louisiana in the lawsuit entitled United States and the Louisiana Department of Environmental Quality v. The Dow Chemical Company, Union Carbide Corp. and Performance Materials, NA, Inc., Civil Action No. 2:21-cv-00114-MLCF-JVM.

The United States and Louisiana Department of Environmental Quality filed this lawsuit under the Clean Air Act and Louisiana Environmental Quality Act. The complaint seeks injunctive relief and civil penalties based on violations of the Clean Air Act's New Source Review requirements, New Source Performance Standards, National Emissions Standards for Hazardous Air Pollutants, “Title V” program requirements and operating permits, and related Texas and Louisiana state implementation plan requirements. The alleged violations involve flares used at petrochemical manufacturing plants owned and operated by the defendants, The Dow Chemical Company, Union Carbide Corp. and Performance Materials, NA, Inc., in Hahnville and Plaquemine, Louisiana, and Freeport and Orange, Texas. The consent decree requires the defendants to perform injunctive relief, pay a $3,000,000 civil penalty, and perform three state-authorized and negotiated beneficial environmental projects in Louisiana.

The publication of this notice opens a period for public comment on the proposed consent decree. Comments should be addressed to the Assistant Attorney General, Environment and Natural Resources Division, and should refer to United States and the Louisiana Department of Environmental Quality v. The Dow Chemical Company, Union Carbide Corp. and Performance Materials, NA, Inc., Civil Action No. 2:21-cv-00114-MLCF-JVM, DOJ reference number 90-5-2-1-11114. All comments must be submitted no later than THIRTY days after the publication date of this notice. Comments may be submitted either by email or by first-class mail:

To submit comments: | Send them to:
By email | pubcomment-ees.enrd@usdoj.gov.
By first-class mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $36.00 (25 cents per page reproduction cost) payable to the United States Treasury. For a paper copy without the exhibits and signature pages, the cost is $23.25.

Kenneth G. Long,
Acting Assistant Section Chief, Environmental Enforcement Section, Environment and Natural Resources Division.

[FR Doc. 2021-01806 Filed 1-27-21; 8:45 am]

BILLING CODE 4410-15-P